DEPARTMENT OF INTERIOR

Bureau of Land Management

[WY-030-02-1610; WY-100-02-1610]

Resource Management Plans; Pinedale and Rawlins, WY

AGENCY: Bureau of Land Management, Interior.

ACTION: Notice of Intent to Revise the Pinedale Resource Management Plan (RMP) and Call for Coal and Other Resource Information for the Bureau of Land Management (BLM) Pinedale Field Office, Pinedale, Wyoming.

SUMMARY: The BLM Pinedale Field Office is initiating a revision of the Pinedale Resource Management Plan (RMP) to guide future management actions on the public lands within the Pinedale Field Office administrative (or management) area. The existing Pinedale RMP will continue to guide management actions and decisions for the Pinedale Field Office until the RMP revision is completed.

The revised RMP will be a comprehensive land use plan that will allocate and identify allowable public land and resource uses, land use and resource condition management goals, public land and resource use conditional requirements, and general management practices needed to achieve RMP objectives. It will also identify lands available for consideration for transfer from BLM jurisdiction (via public disposition or transfer to another agency). Requirements, standards, and procedures for preparing RMPs are contained in 43 CFR 1600, BLM Manual 1601 and BLM Handbook H-1601-1. The BLM Washington Office provides further guidance for BLM land use planning. The BLM Wyoming State Office will continue to provide guidance for land use planning in the ten Field Offices in the State of Wyoming to guide BLM managers in producing balanced public land and resource use decisions that meet requirements of law and regulation. The Pinedale Field Office will develop planning criteria applicable to the planning effort to provide the public a preview of the types of considerations that will be made in developing the RMP decisions for the planning area.

Freedom of Information Act Considerations: Public comments submitted for this planning effort, including names and street addresses of respondents, will be available for public review in their entirety after comment periods close, during regular business hours (7:45 a.m. to 4:30 p.m.), Monday through Friday, except holidays, at the Pinedale Field Office. If you wish to withhold your name or address from public review or from disclosure under the Freedom of Information Act, you must state this prominently at the beginning of your comments. Such requests will be honored to the extent allowed by law. All submissions from organizations or businesses, and from individuals or officials representing organizations or businesses, will be made available for public inspection in their entirety.

DATES: This initial call for coal and other resource information and identification of issues for this planning effort will be open for 60 days, and will commence with the date following publication of this notice in the Federal Register. Notification of future scoping activities and meetings and other meetings or hearings and any other public involvement activities that may be scheduled during the course of the planning effort will be handled through public notices, media news releases, internet postings, or mailings.

The purpose of this call for resource data, issues, and concerns is to help BLM identify specific problems, concerns, and issues pertaining to the various resource and land use values in the Pinedale planning area and to help identify any data gaps, data needs, and data sources pertaining to the planning area. This planning effort is scheduled to be completed by the fall of 2004.

ADDRESSES: Documentation of the planning process and completed documents for the Pinedale RMP planning area will be available at 432 East Mill Street, P.O. Box 768, Pinedale, Wyoming 82941-0768. All comments must include legible full name and address on the envelope, letter, or postcard.

FOR FURTHER INFORMATION CONTACT: If you wish to be placed on the Pinedale RMP mailing list, or if you wish to comment on the preliminary list of public land and resource problems, conflicts, concerns, or issues being considered in the Pinedale RMP revision, contact Kellie Roadifer, Pinedale RMP team leader, at the Pinedale address above or phone (307) 367-5309.

SUPPLEMENTARY INFORMATION: The current Pinedale RMP provides guidance and direction for management of approximately 931,000 acres of BLM-administered public land surface and 1,185,000 acres of BLM-administered Federal mineral estate in Sublette, Lincoln, and Fremont counties, Wyoming. Approximately 919,000 acres are both Federal surface and Federal mineral estate. The Pinedale RMP planning area includes two wilderness study areas (WSA—Scab Creek and Lake Mountain). These have been addressed in separate environmental impact statement (EIS) documents and will not be addressed in the revision of the Pinedale RMP. There are two areas of critical environmental concern (ACEC—Rock Creek and Beaver Creek), and three special recreation management areas (SRMAs —Scab Creek, Upper Green River, and Boulder Lake). Revision of the Pinedale RMP may result in altering the designation of these ACECs and SRMAs, and the management prescriptions for these areas could also change. The potential for additional special management areas will be explored, and if any other areas are nominated for special mnagement area designation, they will be considered in the EIS for the planning effort.

To date, the BLM has identified eight preliminary issues associated with the existing management direction provided by the Pinedale RMP. The BLM invites the public to comment on these preliminary issues and to identify any additional issues, concerns, problems or conflicts that should be considered in the Pinedale RMP revision effort. Comments should be sent to the Pinedale address above.

Issue 1: Potential Conflicts Between Mineral Exploration and Development Activities and Other Land and Resource Uses and Values

Isssue 2: Limited Accessability to Public Lands and Resources and Land Tenure Adjustments

Issue 3: Conflicting Demands for Consumptive and Non-consumptive Vegetation Uses

Issue 4: Potential Conflicts of Various Public Land and Resource Uses with Recreation, Cultural Resources (including National Historic Trails) and Paleontological Resources

Issue 5: Wildland/Urban Interface Concerns

Issue 6: Special Status Plant and Animal Species Management

Issue 7: Concerns for Maintaining or Improving Water Quality and Meeting State and Federal Water Quality Standards

Issue 8: Special Management Area Designations or Changes

The BLM is requesting the public to help identify additional problems and conflicts and resource management opportunities that should also be addressed in the Pinedale RMP Revision process.

This notice includes a request for any available resource information and data pertaining to the Pinedale RMP planning area. The purposes of this request are (1) to assure that the planning effort has sufficient information and data to consider the fullest possible range of public land and resource uses, management options and alternatives, and (2) to include the call for coal resource information required by the Federal Coal Regulations (43 CFR 3420.1-2).

The call for coal resource information in the Pinedale RMP planning area is primarily to update information on areas where coal occurs. There is little, if any, known potential for or interest in developing coal in the Pinedale RMP planning area. However, identifying the areas of coal occurrence is necessary to address potential coal bed methane development.

The usual purpose of the call for coal resource information is to obtain any available coal resource data and any other resource information pertinent to applying the coal unsuitability criteria, and to identify any areas of interest for possible Federal coal leasing. Coal resource information submissions would assist the BLM in determining those areas with coal development potential. As a part of the RMP planning process, the coal screening/coal planning procedures would be conducted on those areas with Federal coal development potential to determine which Federal coal areas are acceptable for further consideration for leasing. Identification at this time of definite interests in future leasing of Federal coal in the Pinedale RMP planning area, substantiated with adequate coal resource data, would allow the BLM to address this potential during the planning effort and possibly avoid unnecessary work, delays, or amendments to the RMP in the near future.

Some of the Pinedale RMP planning area is within the Green River-Hams Fork Coal Production Region. A Notice that the coal region was decertified was published in the Federal Register, Vol. 53, No. 77, April 21, 1988. Federal coal leasing regulations contained in 43 CFR 3425 are now in effect and coal reserves in the Pinedale RMP planning area are subject to potential “leasing by application”. This type of coal leasing is essentially done on a case-by-case basis rather than through the regional leasing process under 43 CFR 3420. Note that the sale and issuance of Federal coal leases under these provisions is still done through a competitive bidding process.

The BLM has very limited capability to conduct additional coal or other resource inventories in the planning area. Thus, parties interested in Federal coal leasing and development or in coal bed methane exploration and development will be expected to provide coal resource data for their areas of interest. The schedule for completing this planning effort requires that areas of interest and coal resource data must be submitted within 60 days following publication of this notice. If coal resource data is insufficient or unavailable for your area(s) of interest at this time, but can be obtained in 2002, the BLM will accept, until April 30, 2002, an estimate of the extent and locations of the coal resource and a schedule for providing the data. The adequacy and timing of the coal resource information provided will determine the extent to which the Federal coal resource, its development potential and coal bed methane development potential may be addressed in this planning effort.

Public participation will be an essential component of this planning effort. Several techniques for providing public involvement opportunities will be used during the planning process, including: Federal Register announcements, one-on-one discussion with interested groups and individuals, internet postings, articles in local news media, and individual mailings to all parties who have expressed an interest in the process. For those persons wishing to be placed on the Pinedale mailing list, notify the BLM contact provided in the ADDRESSES section of this notice.

Dated: January 17, 2002.
Alan R. Pierson,
State Director.

[FR Doc. 02-4494 Filed 2-22-02; 8:45 am]

BILLING CODE 4310-22-P